DEPARTMENT OF HOMELAND SECURITY

Office of the Secretary

[Docket No. DHS-2013-0051]

Privacy Act of 1974; Department of Homeland Security U.S. Citizenship and Immigration Services—011 E-Verify Program System of Records

AGENCY: Privacy Office, Department of Homeland Security.

ACTION: Notice of Privacy Act system of records.

SUMMARY: In accordance with the Privacy Act of 1974, the Department of Homeland Security proposes to update and reissue a current Department of Homeland Security system of records titled “Department of Homeland Security/United States Citizenship and Immigration Services—011 E-Verify Program System of Records.” The United States Citizenship and Immigration Services E-Verify Program allows employers to electronically verify the employment authorization of newly hired employees. The Department of Homeland Security is updating this Privacy Act System of Records Notice for the E-Verify Program in order to provide notice that E-Verify is adding the collection of employee contact information such as email address and telephone number from employers using the recently updated Form I-9 to the “Categories of Records.” DHS recently updated the Form I-9 to allow an employee the option to provide his or her email address and telephone number in order to facilitate direct notification by DHS to the employee of potential mismatches between the information the employee provided on the Form I-9 and the information in DHS or Social Security Administration records. DHS is also updating Routine Use “G” to correct a drafting error in the E-Verify SORN previously issued in the Federal Register on August 8, 2012, (77 FR 47419). Finally, DHS is making some non-substantive technical changes to the Categories of Individuals, Categories of Records such as, reflecting a change in the Form I-9 collection, which previously requested “maiden name” and now requests “other names used, if any,” and updating case disposition codes (the most up-to-date codes can be found in the E-Verify Employer Manual available at http://www.dhs.gov/e-verify).

This updated system is included in the Department of Homeland Security's inventory of record systems.

DATES: Submit comments on or before August 21, 2013. This updated system will be effective August 21, 2013.

ADDRESSES: You may submit comments, identified by docket number DHS-2013-0051 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received go to http://www.regulations.gov.

FOR FURTHER INFORMATION CONTACT: For general questions please contact: Donald K. Hawkins, (202-272-8030), Privacy Officer, United States Citizenship and Immigration Services, 20 Massachusetts Avenue NW., 5th Floor, Washington, DC, 20529. For privacy issues please contact: Jonathan R. Cantor (202-343-1717), Acting Chief Privacy Officer, Privacy Office, Department of Homeland Security, Washington, DC 20528.

SUPPLEMENTARY INFORMATION:

I. Background

In accordance with the Privacy Act of 1974, the Department of Homeland Security proposes to update and reissue the Department of Homeland Security system of records titled, “Department of Homeland Security/U.S. Citizenship and Immigration Services—011 E-Verify Program System of Records.” The USCIS E-Verify Program allows employers to check citizenship status and verify employment eligibility of newly hired employees.

DHS is updating this Privacy Act System of Records Notice for the E-Verify Program in order to provide notice that E-Verify is adding the collection of employee contact information including email address and phone number from the employers using the recently updated Form I-9 to the “Categories of Records.” DHS recently updated the Form I-9 to allow an employee the option to provide his or her email address and telephone number in order to facilitate direct notification by DHS to the employee of potential mismatches between the information the employee provided on the Form I-9 and the information in DHS or Social Security Administration records. DHS is working to streamline E-Verify processes and improve notice to employees regarding potential mismatches. As updates to the E-Verify system take place to accommodate the collection of employee contact information, if provided by the employee and entered into E-Verify by the employer, employees will begin to receive notifications regarding potential mismatches. This employee contact information is used for the purpose of contacting the employee and does not factor into employment eligibility verifications processed through E-Verify. Additional information about the E-Verify program including employee notification and the Tentative Nonconfirmation process are available at http://www.dhs.gov/e-verify. DHS is also updating Routine Use “G” to correct a drafting error in the E-Verify SORN previously issued in the Federal Register on August 8, 2012, (77 FR 47419). Finally, DHS is making some non-substantive technical changes to the Categories of Individuals, Categories of Records such as, reflecting a change in the Form I-9 collection, which previously requested “maiden name” and now requests “other names used, if any,” and updating case disposition codes (the most up-to-date codes can be found in the E-Verify Employer Manual available at http://www.dhs.gov/e-verify).

II. Privacy Act

The Privacy Act embodies fair information practice principles in a statutory framework governing the means by which the federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, the Department of Homeland Security extends administrative Privacy Act protections to all individuals when systems of records maintain information on U.S. citizens, lawful permanent residents, and visitors.

Below is the description of the DHS/U.S. Citizenship and Immigration Services—011, E-Verify Program System of Records.

In accordance with 5 U.S.C. 552a(r), DHS has provided a report of this system of records to the Office of Management and Budget and to Congress.

System of Records

Department of Homeland Security (DHS)/U.S. Citizenship and Immigration Services (USCIS)—011

System name:

DHS/U.S. Citizenship and Immigration Services—011—E-Verify Program

Security classification:

Unclassified, for official use only.

System location:

Records are maintained at the U.S. Citizenship and Immigration Services (USCIS) Headquarters in Washington, DC and field offices; and at the DHS Stennis Data Center (DC1).

Categories of individuals covered by the system:

Categories of individuals covered by the E-Verify program include: Employees, both U.S. Citizens and non-U.S. Citizens, whose employers have submitted to E-Verify their identification and contact information; employers who enroll in E-Verify; designated agents who enroll in E-Verify; individuals employed or retained by employers or designated agents who have accounts to use E-Verify; individuals who contact E-Verify with information on the use of E-Verify; and individuals who provide their names and contact information to E-Verify for notification or contact purposes.

Categories of records in the system:

A. Information about the employee to be verified:

• Name (last, first, middle initial, other names used, if any);

• Date of Birth;

• Social Security Number (SSN);

• Contact information such as email address and telephone number;

• Date of Hire;

• Information related to the expiration of the three day hire;

• Awaiting SSN;

○ Technical Problems,

○ Audit Revealed New Hire Was Not Run,

○ Federal Contractor With E-Verify Clause Verifying Existing Employees,

○ Other

• Claimed Citizenship Status;

• Acceptable Form I-9 document type;

• Expiration Date of Acceptable Form I-9 Document;

• State or jurisdiction of issuance of identity document when that document is a driver's license, driver's permit, or state-issued identification (ID) card;

• Passport Number and Country of Issuance;

• Driver's license number, driver's permit number, or state-issued ID number if issued by a state or jurisdiction participating in the Records and Information from Departments of Motor Vehicles for E-Verify (RIDE) program and when a Memorandum of Agreement (MOA) exists between the state or jurisdiction and DHS USCIS to verify the information about the document;

• Receipt Number;

• Visa Number;

• A-Number;

• I-94 Number;

• Employment Authorization Document (Form I-766) Number;

• Permanent Residence Card (Form I-551) Number Photographs, if required by secondary verification.

B. Disposition data from the employer. The following codes are entered by the employer based on what the employer does as a result of the employment verification information (the most up-to-date disposition codes can be found in the E-Verify Employer Manual available at http://www.dhs.gov/E-Verify):

• The employee continues to work for the employer after receiving and Employment Authorized result: Employer selects this option based on receiving an Employment Authorized response from E-Verify;

• The employee continues to work for the employer after receiving a Final Non-confirmation (FNC) result: Employer selects this option based on the employee getting an FNC despite the employee contesting the Tentative Non-confirmation (TNC) and the employer retains the employee;

• The employee continues to work for the employer after receiving a No Show result: Employer selects this option based on the employee getting a TNC but the employee did not try to resolve the issue with the Social Security Administration (SSA) or DHS and the employer retains the employee;

• The employee continues to work for the employer after choosing not to contest a TNC: Employer selects this option when the employee does not contest the TNC but the employer retains the employee;

• The employee was terminated by the employer for receiving a FNC result: Employer selects this option when employee receives FNC and is terminated;

• The employee was terminated by the employer for receiving a No Show result: Employer selects this option when employee did not take an action to resolve and is terminated;

• The employee was terminated by the employer for choosing not to contest a TNC: Employer selects this option when employee does not contest the TNC and is terminated;

• The employee voluntarily quit working for the employer: Employer selects this option when employee voluntarily quits job without regard to E-Verify;

• The employee was terminated by the employer for reasons other than E-Verify: Employer selects this option when employee is terminated for reasons other than E-Verify;

• The case is invalid because another case with the same data already exists: Employer selects this option when the employer ran an invalid query because the information had already been submitted;

• The case is invalid because the data entered is incorrect: Employer selects this option when the employer ran an invalid query because the information was incorrect.

C. Information about the Employer or Designated Agent:

• Company Name;

• Street Address;

• Employer Identification Number;

• North American Industry Classification System (NAICS) Code;

• Number of Employees;

• Number of Sites;

• Parent Company or Corporate Company;

• Name of Company Point of Contact;

• Phone Number;

• Fax Number;

• E-Mail Address.

D. Information about the Individual Employer User of E-Verify: (e.g., Human Resource employee conducting E-Verify queries):

• Last Name;

• First Name;

• Middle Initial;

• Phone Number;

• Fax Number;

• Email Address;

• User ID.

E. Employment Eligibility Information created by E-Verify:

• Case Verification Number;

• VIS Response (the most up-to-date codes can be found in the E-Verify Employer Manual available at http://www.dhs.gov/E-Verify):

○ Employment Authorized,

○ DHS Verification in Process,

○ SSA TNC,

○ DHS TNC,

○ Employee Referred to SSA,

○ Employee Referred to DHS,

○ SSA Case in Continuance (In rare cases SSA needs more than 10 federal government workdays to confirm employment eligibility),

○ DHS Case in Continuance (In rare cases DHS needs more than 10 federal government workdays to confirm employment eligibility),

○ SSA FNC,

○ DHS FNC,

○ DHS No Show,

○ Case Incomplete,

○ Photo Matching Required,

○ Review and Update Employee Data,

○ Error: Close Case and Resubmit.

F. Information from state Motor Vehicle Agencies (MVA) used to verify of the information from a driver's license, permit, or state issued ID card if the state has established a MOA with DHS USCIS to allow verification of this information. The categories of records from MVAs may include:

• Last Name;

• First Name;

• State or Jurisdiction of Issuance;

• Document Type;

• Document Number;

• Date of Birth;

• Status Text;

• Status Description Text;

• Expiration Date.

G. Information from federal databases used to verify employment eligibility may contain some or all of the following information about the individual being verified:

• Last Name;

• First Name;

• Middle Name;

• Other Names Used (e.g., Maiden Name);

• Date of Birth;

• Age;

• Country of Birth;

• Country of Citizenship;

• Alien Number;

• SSN;

• Citizenship Number;

• Receipt Number;

• Address;

• Previous Address;

• Phone Number;

• Nationality;

• Gender;

• Photograph;

• Date Entered United States;

• Class of Admission;

• File Control Office Code;

• Form I-94 Number;

• Provision of Law Cited for Employment Authorization;

• Office Code Where the Authorization Was Granted;

• Date Employment Authorization Decision Issued;

• Date Employment Authorization Begins;

• Date Employment Authorization Expires;

• Date Employment Authorization Denied;

• Confirmation of Employment Eligibility;

• TNC of Employment Eligibility and Justification;

• FNC of Employment Eligibility;

• Status of Department of Justice Executive Office Immigration Review System (EOIR) Information, if in Proceedings;

• Date Alien's Status Changed;

• Class of Admission Code;

• Date Admitted Until;

• Port of Entry;

• Departure Date;

• Visa Number;

• Passport Number;

• Passport Information including Country of Issuance (COI);

• Passport Card Number;

• Form Number, for example Form I-551 (Lawful Permanent Resident card) or Form I-766 (Employment Authorization Document);

• Expiration Date;

• Employment Authorization Card Information;

• Lawful Permanent Resident Card Information;

• Petitioner Internal Revenue Service Number;

• Class of Admission;

• Valid To Date;

• Student Status;

• Visa Code;

• Status Code;

• Status Change Date;

• Port of Entry Code;

• Non-Citizen Entry Date;

• Program End Date;

• Naturalization Certificate Number;

• Naturalization Date and Place;

• Naturalization Information and Certificate;

• Naturalization Verification (Citizenship Certificate Identification ID);

• Naturalization Verification (Citizenship Naturalization Date/Time);

• Immigration Status (Immigration Status Code);

• Federal Bureau of Investigation Number;

• Admission Number;

• Petitioner Firm Name;

• Petitioner Tax Number;

• Date of Admission;

• Marital Status;

• Marriage Date and Place;

• Marriage Information and Certificate;

• Visa Control Number;

• Visa Foil Number;

• Class of Admission;

• Case History;

• Alerts;

• Case Summary Comments;

• Case Category;

• Date of Encounter;

• Encounter Information;

• Case Actions & Decisions;

• Bonds;

• Current Status;

• Asylum Applicant Receipt Date;

• Airline and Flight Number;

• Country of Residence;

• City Where Boarded;

• City Where Visa was Issued;

• Date Visa Issued;

• Address While in United States;

• File Number;

• File Location.

Authority for maintenance of the system:

Authority for having a system for verification of employment eligibility is found in The Illegal Immigration Reform and Immigrant Responsibility Act of 1996 (IIRIRA), Public Law 104-208 (1996).

Purpose(s):

This system provides employment authorization information to employers participating in E-Verify. It may also be used to support monitoring and compliance activities for obtaining information in order to prevent the commission of fraud, discrimination, or other misuse or abuse of the E-Verify system, including violation of privacy laws or other illegal activity related to misuse of E-Verify, including:

• Investigating duplicate registrations by employers;

• Inappropriate registration by individuals posing as employers;

• Verifications that are not performed within the required time limits; and

• Cases referred by and between E-Verify and the Department of Justice Office of Special Counsel for Immigration-Related Unfair Employment Practices, or other law enforcement entities.

Additionally, the information in E-Verify may be used for program management and analysis, program outreach, customer service, and preventing or deterring further use of stolen identities in E-Verify.

Routine uses of records maintained in the system, including categories of users and the purposes of such uses:

In addition to those disclosures generally permitted under 5 U.S.C. 552a(b) of the Privacy Act, all or a portion of the records or information contained in this system may be disclosed outside the Department of Homeland Security as a routine use pursuant to 5 U.S.C. 552a(b)(3). Any disclosure of information must be made consistent with the official duties of the person making the disclosure. The routine uses are as follows:

A. To the Department of Justice (DOJ), including U.S. Attorney Offices, or other federal agency conducting litigation or in proceedings before any court, adjudicative, or administrative body, when it is relevant or necessary to the litigation and one of the following is a party to the litigation or has an interest in such litigation:

1. DHS or any component thereof;

2. any employee of DHS in his/her official capacity;

3. any employee of DHS in his/her individual capacity when DOJ or DHS has agreed to represent the employee; or

4. the U.S. or any agency thereof.

B. To a congressional office from the record of an individual in response to a written inquiry from that congressional office made pursuant to a Privacy Act waiver from the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of the E-Verify program, which includes potential fraud, discrimination, or employment based identity theft and such disclosure is proper and consistent with the official duties of the person making the disclosure.

H. To employers participating in the E-Verify Program in order to verify the employment eligibility of their employees working in the United States.

I. To the American Association of Motor Vehicle Administrators Network and participating MVAs for the purpose of validating information for a driver's license, permit, or identification card issued by the Motor Vehicle Agency of states or jurisdictions who have signed a Memorandum of Agreement with DHS under the Records and Information from Departments of Motor Vehicles for E-Verify (RIDE) program.

J. To the DOJ, Civil Rights Division, for the purpose of responding to matters within the DOJ's jurisdiction of the E-Verify Program, especially with respect to discrimination.

K. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name, verification case number, Alien Number, I-94 Number, Receipt Number, Passport (U.S. or Foreign) Number and COI, Driver's License, Permit, or State-Issued Identification Card Number, or SSN of the employee, employee user, or by the submitting company name.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

The retention and disposal schedule, N1-566-08-7 has been approved by the National Archives and Records Administration. Records collected in the process of enrolling in E-Verify and in verifying employment eligibility are stored and retained in E-Verify for ten (10) years from the date of the completion of the last transaction, unless the records are part of an on-going investigation in which case they may be retained until completion of the investigation. This period is based on the statute of limitations for most types of misuse or fraud possible using E-Verify (under 18 U.S.C. § 3291, the statute of limitations for false statements or misuse regarding passports, citizenship, or naturalization documents).

System Manager and address:

Chief, Verification Division, U.S. Citizenship and Immigration Services (USCIS), Washington, DC 20528.

Notification procedure:

Individuals seeking notification of and access to any record contained in this system of records, or seeking to contest its content, may submit a request in writing to the U.S. Citizenship and Immigration Services (USCIS), Freedom of Information Act (FOIA) Officer, whose contact information can be found at http://www.dhs.gov/foia under “contacts.” If an individual believes more than one component maintains Privacy Act records concerning him or her the individual may submit the request to the Chief Privacy Officer and Chief Freedom of Information Act Officer, Department of Homeland Security, 245 Murray Drive, SW., Building 410, STOP-0655, Washington, DC 20528.

When seeking records about yourself from this system of records or any other Departmental system of records your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should:

• Explain why you believe the Department would have information on you;

• Identify which component(s) of the Department you believe may have the information about you;

• Specify when you believe the records would have been created;

• Provide any other information that will help the FOIA staff determine which DHS component agency may have responsive records; and

If your request is seeking records pertaining to another living individual, you must include a statement from that individual certifying his/her agreement for you to access his/her records.

Without the above information the component(s) may not be able to conduct an effective search, and your request may be denied due to lack of specificity or lack of compliance with applicable regulations.

Record access procedures:

See “Notification procedure” above.

Contesting record procedures:

See “Notification procedure” above.

Record source categories:

Records are obtained from several sources including:

(A) Information collected from employers about their employees relating to employment eligibility verification;

(B) Information collected from E-Verify users used to provide account access and monitoring;

(C) Information collected from Federal and state databases listed below:

• SSA Numident System,

• CBP Nonimmigrant Information System (NIIS) and Border Crossing Information (BCI),

• ICE Student and Exchange Visitor Identification System (SEVIS),

• ICE ENFORCE Integrated Database (EID) Enforcement Alien Removal, Module (EARM) Alien Number,

• USCIS Aliens Change of Address System (AR-11),

• USCIS Central Index System (CIS),

• USCIS Customer Profile Management System (CPMS),

• USCIS Computer-Linked Application Information Management System Version 3 (CLAIMS 3),

• USCIS Computer-Linked Application Information Management System Version 4 (CLAIMS 4),

• USCIS Citizenship and Immigration Services Centralized Operational Repository (CISCOR),

• USCIS National File Tracking System (NFTS),

• USCIS Microfilm Digitization Application System (MiDAS),

• USCIS Marriage Fraud Amendment System (MFAS),

• USCIS Enterprise Document Management System (EDMS),

• USCIS Refugees, Asylum, and Parole System (RAPS),

• OBIM Arrival Departure Information System (ADIS),

• Department of State Consular Consolidated Database (CCD),

• Department of Justice Executive Office Immigration Review (EOIR) Case Access System,

• State Motor Vehicle Administrations, if participating in the E-Verify RIDE initiative,

(D) Information created by E-Verify.

Exemptions claimed for the system:

None.

Jonathan R. Cantor,
Acting Chief Privacy Officer, Department of Homeland Security.

[FR Doc. 2013-17451 Filed 7-19-13; 8:45 am]

BILLING CODE 9111-97-P